DEPARTMENT OF ENERGY

Federal Energy Regulatory Commission

[Project No. 77-332]

Pacific Gas and Electric Company; Notice Extending Comment Period

On July 25, 2025, Pacific Gas and Electric Company filed an application to surrender and decommission the Potter Valley Hydroelectric Project No. 77. The project is located on the Eel River and East Fork of the Russian River in Lake and Mendocino counties, California. The project occupies federal lands managed by the U.S. Forest Service.

On October 31, 2025, the Commission issued public notice of the application and established December 1, 2025, as the deadline for filing comments, motions to intervene, and protests. Since issuance of the notice, multiple parties including the Department of Interior, Department of Agriculture's U.S. Forest Service, County of Lake (California), America First Policy Institute, the Honorable Doug LaMalfa, U.S. House of Representatives, and private citizens, have filed requests to extend the comment period. Requested extensions range from short extensions (i.e., to December 15, 2025), to as long as 60 and 90 days.

Among the reasons cited for the request for extension was the federal lapse of appropriations from October 1 through November 12, 2025, the complexity of issues related to surrender of the project, and additional time would allow more meaningful stakeholder engagement with the Commission.

We have reviewed the requests and are extending the deadline for filing comments, interventions, and protests until 5:00 p.m. Eastern Time on December 19, 2025.

The Commission strongly encourages electronic filing. Please file comments using the Commission's eFiling system at http://www.ferc.gov/docs-filing/efiling.asp. Commenters can submit brief comments up to 6,000 characters, without prior registration, using the eComment system at http://www.ferc.gov/docs-filing/ecomment.asp. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-77-332.

For public inquiries and assistance with making filings such as interventions, comments, or requests for rehearing, contact the Office of Public Participation at (202) 502-6595 or OPP@ferc.gov.

For further information, contact Diana Shannon at 202-502-6136 or diana.shannon@ferc.gov.

(Authority: 18 CFR 2.1)

Dated: December 1, 2025.
Carlos D. Clay,
Deputy Secretary.

[FR Doc. 2025-21945 Filed 12-3-25; 8:45 am]

BILLING CODE 6717-01-P